FEDERAL FINANCIAL INSTITUTIONS EXAMINATION COUNCIL

[Docket No. AS16-07]

Appraisal Subcommittee Notice of Meeting

AGENCY: Appraisal Subcommittee of the Federal Financial Institutions Examination Council.

ACTION: Notice of meeting.

Description: In accordance with Section 1104 (b) of Title XI of the Financial Institutions Reform, Recovery, and Enforcement Act of 1989, as amended, notice is hereby given that the Appraisal Subcommittee (ASC) will meet in open session for its regular meeting:

Location: Federal Reserve Board—International Square location, 1850 K Street NW., Washington, DC 20006.

Date: July 13, 2016.

Time: 10:00 a.m.

Status: Open.

Reports

Chairman

Executive Director

Delegated State Compliance Reviews

Financial Report

Action and Discussion Items

May 11, 2016 Open Session Minutes

How to Attend and Observe an ASC meeting:

If you plan to attend the ASC Meeting in person, we ask that you send an email to meetings@asc.gov. You may register until close of business four business days before the meeting date. You will be contacted by the Federal Reserve Law Enforcement Unit on security requirements. You will also be asked to provide a valid government-issued ID before being admitted to the Meeting. The meeting space is intended to accommodate public attendees. However, if the space will not accommodate all requests, the ASC may refuse attendance on that reasonable basis. The use of any video or audio tape recording device, photographing device, or any other electronic or mechanical device designed for similar purposes is prohibited at ASC meetings.

Dated: June 28, 2016.
James R. Park,
Executive Director.

[FR Doc. 2016-15672 Filed 6-30-16; 8:45 am]

BILLING CODE P